DEPARTMENT OF THE INTERIOR

National Park Service

[2253-665]

Notice of Inventory Completion: Fowler Museum at UCLA, Los Angeles, CA

AGENCY: National Park Service, Interior.

ACTION: Notice.

SUMMARY: The Fowler Museum at UCLA has completed an inventory of human remains, in consultation with the appropriate Indian tribes, and has determined that that there is a cultural affiliation between the human remains and present-day Indian tribes. Repatriation of the human remains to the Indian tribe stated below may occur if no additional claimants come forward.

DATES: Representatives of any Indian tribe that believes it has a cultural affiliation with the human remains should contact the Fowler Museum at UCLA at the address below by May 31, 2012.

ADDRESSES: Wendy G. Teeter, Ph.D., Curator of Archaeology, Fowler Museum at UCLA, Box 951549, Los Angeles, CA 90095-1549, telephone (310) 825-1864.

SUPPLEMENTARY INFORMATION: Notice is here given in accordance with the Native American Graves Protection and Repatriation Act (NAGPRA), 25 U.S.C. 3003, of the completion of an inventory of human remains in the possession of the Fowler Museum at UCLA, Los Angeles, CA. The human remains were removed from the Sacramento River Basin, Butte County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Fowler Museum at UCLA professional staff in consultation with representatives of the Mooretown Rancheria of Maidu Indians of California and the Mechoopda Indian Tribe of Chico Rancheria, California, and with the Cultural Preservation Committee of Koyomi'Kawi (Konkow) Maidu Tribe (a non-Federally recognized Indian group).

History and Description of the Remains

In the summer of 1967, human remains representing, at minimum, three individuals were removed from the Finch Site (CA-BUT-12), in the Sacramento River Basin, Butte County, CA. The remains were excavated during a UCLA field school conducted under the direction of Joseph Chartkoff. The human remains consist of three molars representing no more than three separate individuals. The degree of wear and root development on the teeth suggest that two of these individuals were juveniles, and one was likely an adult. The sex of the individuals cannot be determined. No known individuals were identified. No associated funerary objects are present.

Osteological and archaeological analyses have determined that the teeth are likely of Native American origin. Everett Smith, an elder, J.D. Smith, Chair of the Cultural Preservation Committee, and Arlene Ward, Mechoopda Maidu Tribe, have identified the recovery site as within the traditional territory of the Northwestern Maidu. The geographic location is consistent with the historically documented Konkow or Northwestern Maidu territory. Butte County, CA, is in the Central Valley region of traditional lands of the Maidu. Descendants of the Konkow or Northwestern Maidu were dispersed and became members of the Federally recognized tribes of the Berry Creek Rancheria of Maidu Indians of California; Enterprise Rancheria of Maidu Indians of California; Mechoopda Indian Tribe of Chico Rancheria, California; Mooretown Rancheria of Maidu Indians of California; and the Round Valley Indian Tribes of Round Valley Reservation, California. Multiple lines of evidence, including treaties, Acts of Congress, and Executive Orders, indicate that the land from which the human remains were removed is the aboriginal land of the Berry Creek Rancheria of Maidu Indians of California; Enterprise Rancheria of Maidu Indians of California; Mechoopda Indian Tribe of Chico Rancheria, California; Mooretown Rancheria of Maidu Indians of California; and the Round Valley Indian Tribes of Round Valley Reservation, California. A claim of repatriation has been received from the Mechoopda Indian Tribe of Chico Rancheria, California.

Determinations Made by the Fowler Museum at UCLA

Officials of the Fowler Museum at UCLA have determined that:

• Pursuant to 25 U.S.C. 3001(9)-(10), the human remains described above represent the physical remains of three individuals of Native American ancestry.

• Pursuant to 25 U.S.C. 3001(2), there is a relationship of shared group identity that can be reasonably traced between the Native American human remains and the Berry Creek Rancheria of Maidu Indians of California; Enterprise Rancheria of Maidu Indians of California; Mechoopda Indian Tribe of Chico Rancheria, California; Mooretown Rancheria of Maidu Indians of California; and the Round Valley Indian Tribes of Round Valley Reservation, California.

Additional Requestors and Disposition

Representatives of any other Indian tribe that believes itself to be culturally affiliated with the human remains should contact Wendy G. Teeter, Ph.D., Curator of Archaeology, Fowler Museum at UCLA, Box 951549, Los Angeles, CA 90095-1549, telephone (310) 825-1864, before May 31, 2012. Repatriation of the human remains to the Mechoopda Indian Tribe of Chico Rancheria, California may proceed after that date if no additional claimants come forward.

The Fowler Museum at UCLA is responsible for notifying the Berry Creek Rancheria of Maidu Indians of California; Enterprise Rancheria of Maidu Indians of California; Mechoopda Indian Tribe of Chico Rancheria, California; Mooretown Rancheria of Maidu Indians of California; and the Round Valley Indian Tribes of Round Valley Reservation, California that this notice has been published.

Dated: April 26, 2012.
David Tarler,
Acting Manager, National NAGPRA Program.

[FR Doc. 2012-10497 Filed 4-30-12; 8:45 am]

BILLING CODE 4312-50-P